DEPARTMENT OF THE INTERIOR

Bureau of Land Management

[WY-957-02-9820-BJ-WY01]

Survey of Plat Filing; Wyoming

AGENCY: Bureau of Land Management, Interior.

ACTION: Notice of filing of plats of survey, Wyoming.

SUMMARY: The Bureau of Land Management (BLM) is scheduled to file the plats of survey of the described lands, 30 calender days from the date of this publication, in the BLM Wyoming State Office, Cheyenne, Wyoming.

FOR FURTHER INFORMATION CONTACT: Bureau of Land Management, 5353 Yellowstone Road, P.O. Box 1828, Cheyenne, Wyoming 82003.

SUPPLEMENTARY INFORMATION: These surveys were executed at the request of the U.S. Forest Service, and are necessary to determine the boundaries of the Medicine Bow National Forest. The lands surveyed are:

The plat representing the dependent resurvey of a portion of the subdivisional lines, and the subdivision of sections 10 and 11, Township 18 North, Range 82 West, Sixth Principal Meridian, Wyoming, was accepted December 31, 2002.

Copies of the preceding described plats are available to the public.

Dated: January 6, 2003.
John P. Lee,
Chief Cadastral Surveyor, Division of Support Services.

[FR Doc. 03-640 Filed 1-10-03; 8:45 am]

BILLING CODE 4310-22-M